DEPARTMENT OF DEFENSE

Office of the Secretary

[Docket ID: DOD-2019-OS-0038]

Privacy Act of 1974; System of Records

AGENCY: Office of Secretary of Defense, DoD.

ACTION: Notice of a modified system of records.

SUMMARY: The Office of the Secretary of Defense proposes to modify the system of records, Defense Manpower Data Center Data Base, DMDC 01, by amending Routine Use 15 regarding disclosures to the Department of Education (ED) to accommodate disclosures for a new computer matching agreement with the ED. This new matching agreement with ED ensures that service members who have received imminent danger pay (IDP) or hostile fire pay (HFP) benefits and who have student loans under Part D, Title IV of the Higher Education Act of 1965 (HEA), as amended, receive the no interest accrual benefit on their eligible loans during the period of time they received IDP or HFP pay. The system of records, DMDC 01, contains personnel, employment, and pay data on current and former military and civilian personnel and survivors and dependents of military personnel. System data is used to conduct computer matches with various agencies in accordance with the Computer Matching and Privacy Protection Act of 1988. The proposed modification to the routine use will enable the computer match with the ED.

DATES: Comments will be accepted on or before May 16, 2019. This proposed action will be effective on the date following the end of the comment period unless comments are received which result in a contrary determination.

ADDRESSES: You may submit comments, identified by docket number and title, by any of the following methods:

* Federal eRulemaking Portal: http://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: The OSD proposes to modify a system of records, Defense Manpower Data Center Data Base, DMDC 01, to enable a new Computer Matching Agreement (CMA) with the ED. Revisions to Routine Use 15 of DMDC 01 will allow for the dissemination of data per a new CMA with ED, where ED will use DoD data to identify service members that are eligible for a no interest accrual benefit on eligible Title IV of the HEA student loans during the period of time the service member received imminent danger pay or hostile fire pay.

The proposed systems reports, as required by the Privacy Act, as amended, were submitted on March 6, 2019, to the House Committee on Oversight and Government Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

Dated: April 11, 2019.
Aaron T. Siegel,
Alternate OSD Federal Register Liaison Officer, Department of Defense.

SYSTEM NAME AND NUMBER

Defense Manpower Data Center Data Base, DMDC 01

SECURITY CLASSIFICATION:

Unclassified.

SYSTEM LOCATION:

Naval Postgraduate School Computer Center, Naval Postgraduate School, Monterey, CA 93943-5000.

SYSTEM MANAGER(S):

Deputy Director, Defense Manpower Data Center, DoD Center Monterey Bay, 400 Gigling Road, Seaside, CA 93955-6771.

* * * * *

ROUTINE USES OF RECORDS MAINTAINED IN THE SYSTEM, INCLUDING CATEGORIES OF USERS AND THE PURPOSES OF SUCH USES:

* * * * *

15. To the Department of Education to conduct computer matching programs regulated by the Privacy Act of 1974, as amended (5 U.S.C. 552a), for the purpose of:

a. Identifying dependent children of service members killed in Operation Iraqi Freedom and Operation Enduring Freedom (OIF/OEF) Afghanistan Only for possible benefits.

b. Ensuring eligibility of service members to receive the no-interest accrual benefit on their eligible student loans during the period of time the service members receive imminent danger pay or hostile fire pay, consistent with the Higher Education Act of 1965 (20 U.S.C. 1070 et seq.).

* * * * *

HISTORY:

March 11, 2019, 84 FR 8698; November 23, 2011, 76 FR 72391

[FR Doc. 2019-07531 Filed 4-15-19; 8:45 am]

BILLING CODE 5001-06-P